SECURITIES AND EXCHANGE COMMISSION

[File No. 500-1]

Dialpoint Communications Corp., Pacel Corp., Quantum Group, Inc. (The), and Tradequest International, Inc.; Order of Suspension of Trading

September 8, 2011.

It appears to the Securities and Exchange Commission that there is a lack of current and accurate information concerning the securities of Dialpoint Communications Corp. because it has not filed any periodic reports since the period ended September 30, 2008.

It appears to the Securities and Exchange Commission that there is a lack of current and accurate information concerning the securities of Pacel Corp. because it has not filed any periodic reports since the period ended September 30, 2006.

It appears to the Securities and Exchange Commission that there is a lack of current and accurate information concerning the securities of Quantum Group, Inc. (The) because it has not filed any periodic reports since the period ended July 31, 2009.

It appears to the Securities and Exchange Commission that there is a lack of current and accurate information concerning the securities of Tradequest International, Inc. because it has not filed any periodic reports since the period ended September 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 8, 2011, through 11:59 p.m. EDT on September 21, 2011.

By the Commission.
Jill M. Peterson,
Assistant Secretary.

[FR Doc. 2011-23307 Filed 9-8-11; 11:15 am]

BILLING CODE 8011-01-P